FEDERAL COMMUNICATIONS COMMISSION

47 CFR Part 73

[DA 01-1093; MM Docket No. 01-102, RM-10100, MM Docket No. 01-103, RM-10102; MM Docket No. 01-104, RM-10103; MM Docket No. 01-105, RM-10104; MM Docket No. 01-106, RM-10105]

Radio Broadcasting Services; Plainville, GA; Rosholt, WI; Auburn, AL; Shiner, TX; and Pacific City, OR

AGENCY: Federal Communications Commission.

ACTION: Proposed rule.

SUMMARY: This document proposes five new allotments to Plainville, Georgia; Rosholt, Wisconsin; Auburn, Alabama; Shiner, Texas; and Pacific City, Oregon. The Commission requests comments on a petition filed by Plainville Communications proposing the allotment of Channel 285A at Plainville, Georgia as the community's first local aural transmission service. Channel 285A can be allotted to Plainvllle in compliance with the Commission's minimum distance separation requirements with a site restriction of 6.5 kilometers (4.0 miles) northwest to avoid a short-spacing to the licensed site of Station WFSH-FM, Channel 284C1, Athens, Georgia. The coordinates for Channel 285A at Plainville are 34-25-58 North Latitude and 85-05-48 West Longitude. The Commission requests comments on a petition filed by Craig Norlin proposing the allotment of Channel 263A at Rosholt, Wisconsin, as the community's first local aural transmission service. Channel 263A can be allotted to Rosholt in compliance with the Commission's minimum distance separation requirements with a site restriction of 8.6 kilometers (5.3 miles) northwest to avoid a short-spacing to the licensed sites of Station WIZD(FM), Channel 260C3, Rudolph, Wisconsin, and Station WNYC-FM, Channel 262, Neenah-Menasha, Wisconsin. The coordinates for Channel 263A at Rosholt are 44-40-12 North Latitude and 89-23-45 West Longitude. See Supplementary Information, infra.

DATES: Comments must be filed on or before June 18, 2001, and reply comments on or before July 3, 2001.

FOR FURTHER INFORMATION CONTACT: Sharon P. McDonald, Mass Media Bureau (202) 418-2180.

ADDRESSES: Federal Communications Commission, Washington, DC 20554. In addition to filing comments with the FCC, interested parties should serve the petitioner, his counsel, or consultant, as follows: Jerry D. Braswell, Plainville Communications, P.O. Drawer 90, Hawkinsville, Georgia 31036-0090 (Petitioner); Harry F. Cole, Esq., Bechtel & Coe, Chartered, 1901 L Street, NW., Suite 250, Washington, DC 20036 (Counsel for Craig Norlin); Lee G. Petro, Esq., Gardner, Carton & Douglas, 1301 K Street, NW., Suite 900, East Tower, Washington, DC 20005-3317 (Counsel for Auburn Network, Inc.); David P. Garland, President, Stargazer Broadcasting, Inc., P.O. Box 519, Woodville, Texas 75979 (Petitioner); and John L. Zolkoske, 915 N. Douglas Ave., Stayton, Oregon 97383 (Petitioner).

SUPPLEMENTARY INFORMATION: This is a synopsis of the Commission's Notice of Proposed Rule Making, MM Docket No. 01-102; MM Docket No. 01-103; and MM Docket No. 01-104, MM Docket No. 01-105 and MM Docket No. 01-106, adopted April 18, 2001, and released April 27, 2001. The full text of this Commission decision is available for spection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission requests comments on a petition filed by Auburn Network, Inc., proposing the allotment of Channel 263A at Auburn, Alabama, as the community's second local FM transmission service. Channel 263A can be allotted to Auburn in compliance with the Commission's minimum distance separation requirements site restriction of 3.2 kilometers (2.0 miles) south to avoid a short-spacing to the licensed site of Station WLXY(FM), Channel 263C1, Northport, Alabama. The coordinates for Channel 263A at Auburn are 32-34-54 North Latitude and 85-29-17 West Longitude.

The Commission requests comments on a petition filed by Stargazer Broadcasting, Inc., proposing the allotment of Channel 232A at Shiner, Texas, as the community's first local aural transmission service. Channel 232A can be allotted to Shiner in compliance with the Commission's minimum distance separation requirements site restriction of 5.1 kilometers (3.2 miles) west to avoid a short-spacing to the licensed site of Station KAJI(FM), Channel 231C3, Point Comfort, Texas. The coordinates for Channel 232A at Shiner are 29-25-59 North Latitude and 97-13-20 West Longitude. Since Shiner is located within 320 kilometers (199 miles) of the U.S-Mexican border, concurrence of the Mexican government has been requested.

The Commission requests comments on a petition filed by John L. Zolkoske proposing the allotment of Channel 282A at Pacific City, Oregon as the community's first local aural transmission service. Channel 282A can be allotted to Pacific City in compliance with the Commission's minimum distance separation requirements at city reference coordinates. The coordinates for Channel 282A at Pacific City are 45-12-09 North Latitude and 123-57-42 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303. 334, and 336.

§ 73.202 [Amended]

2. Section 73.202(b), the Table of FM Allotments under Alabama, is amended by adding Channel 263A at Auburn.

3. Section 73.202(b), the Table of FM Allotments under Georgia, is amended by adding Plainville, Channel 285A.

4. Section 73.202(b), the Table of FM Allotments under Oregon, is amended by adding Pacific City, Channel 282A.

5. Section 73.202(b), the Table of FM Allotments under Texas, is amended by adding Shiner, Channel 232A.

6. Section 73.202(b), the Table of FM Allotments under Wisconsin, is amended by adding Rosholt, Channel 236A.

Federal Communications Commission.
John A. Karousos,
Chief, Allocations Branch, Policy and Rules Division, Mass Media Bureau.

[FR Doc. 01-12163 Filed 5-14-01; 8:45 am]

BILLING CODE 6712-01-P